DEPARTMENT OF ENERGY

Federal Energy Regulatory Commission

Combined Notice of Filings #1

July 3, 2007.

Take notice that the Commission received the following exempt wholesale generator filings:

Docket Numbers: EG07-61-000.

Applicants: Warm Springs Biomass Project, LLC.

Description: Notice of Self-Certification of Exempt Wholesale Generator Status of Warm Springs Biomass Project, LLC.

Filed Date: 06/26/2007.

Accession Number: 20070625-5079.

Comment Date: 5 p.m. Eastern Time on Tuesday, July 17, 2007.

Docket Numbers: EG07-62-000.

Applicants: Peetz Table Wind Energy, LLC.

Description: Notice of Self-Certification of Exempt Wholesale Generator Status of Peetz Table Wind Energy, LLC.

Filed Date: 06/27/2007.

Accession Number: 20070627-5012.

Comment Date: 5 p.m. Eastern Time on Wednesday, July 18, 2007.

Docket Numbers: EG07-63-000.

Applicants: NRG Texas Power LLC.

Description: NRG Texas Power, LLC submits its Notice of Self-Certification of Exempt Wholesale Generator Status.

Filed Date: 06/28/2007.

Accession Number: 20070702-0260.

Comment Date: 5 p.m. Eastern Time on Thursday, July 19, 2007.

Take notice that the Commission received the following electric rate filings:

Docket Numbers: ER95-1528-017; ER96-1088-044; ER01-2659-011; ER02-2199-009; ER03-54-009; ER03-56-009; ER96-1858-022; ER03-674-011; ER99-1936-010; ER01-1114-010; ER97-2758-017; ER05-89-010; ER01-2306-003.

Applicants: Wisconsin Public Service Corporation; WPS Power Development, LLC, and WPS Energy Services, Inc.; Combined Locks Energy Center, LLC; WPS Empire State, Inc.; WPS Beaver Falls Generation, LLC; Mid-American Power, LLC; Quest Energy, LLC; WPS Canada Generation, Inc. and WPS New England Generation, Inc.; WPS Westwood Generation, LLC; Advantage Energy, Inc.; Upper Peninsula Power Company; Peoples Energy Services Corporation

Description: Integrys Energy Group, Inc submits Notice of Change in Status as set forth in the Commission's Order 652.

Filed Date: 06/28/2007.

Accession Number: 20070702-0264.

Comment Date: 5 p.m. Eastern Time on Thursday, July 19, 2007.

Docket Numbers: ER98-3564-000.

Applicants: FPL Energy Wyman IV LLC.

Description: Change in Material Facts of FPL Energy Wyman IV LLC.

Filed Date: 06/29/2007.

Accession Number: 20070629-5022.

Comment Date: 5 p.m. Eastern Time on Friday, July 20, 2007.

Docket Numbers: ER99-705-004.

Applicants: Golden Spread Electric Cooperative, Inc.

Description: Notice of Change in Status of Golden Spread Electric Cooperative, Inc.

Filed Date: 06/29/2007.

Accession Number: 20070629-5045.

Comment Date: 5 p.m. Eastern Time on Friday, July 20, 2007.

Docket Numbers: ER01-2569-005; ER98-4652-005; ER02-1175-004; ER01-2568-003.

Applicants: Boralex Livemore Falls Inc.; Boralex Stratton Energy LP; Boralex Ft. Fairfield LP; Boralex Ashland LP.

Description: Triennial Compliance Filing of Boralex Industries Inc.

Filed Date: 06/29/2007.

Accession Number: 20070629-5023.

Comment Date: 5 p.m. Eastern Time on Friday, July 20, 2007.

Docket Numbers: ER02-999-005; ER97-2463-005; ER05-320-003; ER97-2460-008.

Applicants: Fitchburg Gas and Electric Light Company; Unitil Energy Systems, Inc.; Unitil Power Corporation.

Description: Change in Status of Fitchburg Gas and Electric Light Company, Unitil Power Corp. and Unitil Energy Systems, Inc.

Filed Date: 06/29/2007.

Accession Number: 20070629-5066.

Comment Date: 5 p.m. Eastern Time on Friday, July 20, 2007.

Docket Numbers: ER02-1437-003.

Applicants: Triton Power Michigan LLC.

Description: Notice of non-material change in status of Triton Power Michigan LLC.

Filed Date: 06/29/2007.

Accession Number: 20070629-5017.

Comment Date: 5 p.m. Eastern Time on Friday, July 20, 2007.

Docket Numbers: ER02-1785-011.

Applicants: Thermo Cogeneration Partnership LP.

Description: Notice of non-material change in status of Thermo Cogeneration Partnership, L.P.

Filed Date: 06/29/2007.

Accession Number: 20070629-5028.

Comment Date: 5 p.m. Eastern Time on Friday, July 20, 2007.

Docket Numbers: ER04-698-004.

Applicants: Tor Power, LLC.

Description: Tor Power, LLC submits its Updated Market Power Analysis Report.

Filed Date: 06/28/2007.

Accession Number: 20070628-5007.

Comment Date: 5 p.m. Eastern Time on Thursday, July 19, 2007.

Docket Numbers: ER05-1065-010.

Applicants: Entergy Services, Inc.

Description: Entergy Operating Companies submits its compliance filing.

Filed Date: 06/25/2007.

Accession Number: 20070627-0102.

Comment Date: 5 p.m. Eastern Time on Monday, July 16, 2007.

Docket Numbers: ER07-127-003.

Applicants: California Independent System Operator Corporation.

Description: California Independent System Operator Corporation submits Second Revised Sheet 163 et al to FERC Electric Tariff, Third Replacement Volume 1 pursuant to Section 205 of the Federal Power Act etc.

Filed Date: 06/27/2007.

Accession Number: 20070629-0069.

Comment Date: 5 p.m. Eastern Time on Wednesday, July 18, 2007.

Docket Numbers: ER07-282-001.

Applicants: Southwest Power Pool, Inc.

Description: Southwest Power Pool, Inc. submits its executed service agreement for Firm Point-to-Point Transmission Service with Kansas Power Pool, & revised agreement for firm Point-to-Point Transmission Service w/Kansas Municipal Energy Agency.

Filed Date: 06/27/2007.

Accession Number: 20070629-0067.

Comment Date: 5 p.m. Eastern Time on Wednesday, July 18, 2007.

Docket Numbers: ER07-285-001.

Applicants: New York Independent System Operator, Inc.

Description: NYISO submits an informational report on efforts to finalize permanent market rules for intermittent suppliers.

Filed Date: 06/28/2007.

Accession Number: 20070628-5011.

Comment Date: 5 p.m. Eastern Time on Thursday, July 19, 2007.

Docket Numbers: ER07-361-003.

Applicants: AmerenEnergy Marketing Company.

Description: Central Illinois Light Company dba AmerenCILCO et al submits 2nd Substitute First Revised Sheet 1 to FERC Electric Tariff, Original Volume 1.

Filed Date: 06/27/2007.

Accession Number: 20070629-0070.

Comment Date: 5 p.m. Eastern Time on Wednesday, July 18, 2007.

Docket Numbers: ER07-545-002.

Applicants: Commonwealth Edison Company.

Description: Commonwealth Edison Company submits revised rate schedule designation cover sheets to remedy issues with respect to rate schedule designations and effective dates for an Interconnection Agreement etc.

Filed Date: 06/27/2007.

Accession Number: 20070629-0068.

Comment Date: 5 p.m. Eastern Time on Wednesday, July 18, 2007.

Docket Numbers: ER07-666-001.

Applicants: Midwest Independent Transmission System.

Description: Midwest Independent Transmission System Operator, Inc submits a Small Generator Interconnection Agreement with Hardin Hilltop Wind, LLC et al pursuant to Section 205 of the Federal Power Act.

Filed Date: 06/25/2007.

Accession Number: 20070626-0054.

Comment Date: 5 p.m. Eastern Time on Monday, July 16, 2007.

Docket Numbers: ER07-1005-001; ER07-1006-001; ER07-1007-001.

Applicants: Westar Energy, Inc.

Description: Westar Energy, Inc submits its Sub Original Sheet 2, to the Supplemental Generation Agreements with Cities of Sabetha, Minneapolis, and Holton, KS.

Filed Date: 06/28/2007.

Accession Number: 20070702-0263.

Comment Date: 5 p.m. Eastern Time on Thursday, July 19, 2007.

Docket Numbers: ER07-1086-000.

Applicants: PJM Interconnection, L.L.C.

Description: PJM Interconnection, LLC submits revisions to the chart in Schedule 2 of the PJM Open Access Transmission Tariff to adjust the zonal revenue requirements for providing cost-based reactive support and voltage control etc.

Filed Date: 06/27/2007.

Accession Number: 20070628-0181.

Comment Date: 5 p.m. Eastern Time on Wednesday, July 18, 2007.

Docket Numbers: ER07-1087-000.

Applicants: American Electric Power Service Corp.

Description: American Electric Power Service Corp agent for the AEP Operating Companies submits an original Interconnection and Local Delivery Service Agreement with the City of Orrville, Ohio.

Filed Date: 06/27/2007.

Accession Number: 20070628-0180.

Comment Date: 5 p.m. Eastern Time on Wednesday, July 18, 2007.

Docket Numbers: ER07-1088-000.

Applicants: RBC Energy Services LP.

Description: Application of RBC Energy Services, LP for an expedited order accepting Initial Rate Schedule FERC 1, waiving regulations, and granting blanket approvals.

Filed Date: 06/27/2007.

Accession Number: 20070628-0179.

Comment Date: 5 p.m. Eastern Time on Wednesday, July 18, 2007.

Docket Numbers: ER07-1089-000.

Applicants: ISO New England, Inc.; New England Power Pool Participants Committee.

Description: ISO New England, Inc et al submit proposed amendments to the Financial Assurance Policies that are Exhibits 1A and 1C to Section I of the ISO Tariff etc.

Filed Date: 06/27/2007.

Accession Number: 20070628-0178.

Comment Date: 5 p.m. Eastern Time on Wednesday, July 18, 2007.

Docket Numbers: ER07-1090-000.

Applicants: PJM Interconnection, L.L.C.

Description: PJM Interconnection, LLC submits an executed Wholesale Market Participation Agreement with WM Renewable Energy LLC et al pursuant section 205 of the Federal Power Act.

Filed Date: 06/28/2007.

Accession Number: 20070629-0066.

Comment Date: 5 p.m. Eastern Time on Thursday, July 19, 2007.

Docket Numbers: ER07-1091-000.

Applicants: American Electric Power Service Corporation.

Description: The American Electric Power Service Corp agent for the AEP Operating Companies submits & requests acceptance of a new Interconnection and Local Delivery Service Agreement w/ the City of Columbus.

Filed Date: 06/28/2007.

Accession Number: 20070629-0071.

Comment Date: 5 p.m. Eastern Time on Thursday, July 19, 2007.

Docket Numbers: ER07-1092-000.

Applicants: Southwest Power Pool, Inc.

Description: Southwest Power Pool, Inc submits the relevant Network Operating Agreement that was omitted from the 5/1/07 filing etc.

Filed Date: 06/28/2007.

Accession Number: 20070629-0048.

Comment Date: 5 p.m. Eastern Time on Thursday, July 19, 2007.

Docket Numbers: ER07-1093-000.

Applicants: Southwest Power Pool, Inc.

Description: Southwest Power Pool, Inc submits an executed Service Agreement for Network Integration Transmission Service with Westar Energy, Inc.

Filed Date: 06/28/2007.

Accession Number: 20070629-0049.

Comment Date: 5 p.m. Eastern Time on Thursday, July 19, 2007.

Docket Numbers: ER07-1094-000.

Applicants: Niagara Mohawk Power Corporation.

Description: Niagara Mohawk Power Corp dba National Grid submits an Interconnection Agreement dated 2/2/92 with Lyonsdale Energy Limited Partnership.

Filed Date: 06/28/2007.

Accession Number: 20070629-0050.

Comment Date: 5 p.m. Eastern Time on Thursday, July 19, 2007.

Docket Numbers: ER07-1095-000.

Applicants: Southwestern Electric Power Company.

Description: Southwestern Electric Power Company submits Actuarial Reports with respect to actual post-employment benefits other than pensions and post-employment benefits for calendar year 2006 etc.

Filed Date: 06/28/2007.

Accession Number: 20070629-0051.

Comment Date: 5 p.m. Eastern Time on Thursday, July 19, 2007.

Docket Numbers: ER07-1096-000.

Applicants: Niagara Mohawk Power Corporation.

Description: Niagara Mohawk Power Corporation dba National Grid submits an Interconnection Agreement dated 6/29/92 w/ Hadson Power Partners of Rensselaer.

Filed Date: 06/28/2007.

Accession Number: 20070629-0047.

Comment Date: 5 p.m. Eastern Time on Thursday, July 19, 2007.

Take notice that the Commission received the following public utility holding company filings:

Docket Numbers: PH07-20-000.

Applicants: IIF US Holding 2 GP, LLC.

Description: FERC Form 65 A, Exemption Notification of IIF US Holding 2 GP, LLC.

Filed Date: 06/28/2007.

Accession Number: 20070628-5047.

Comment Date: 5 p.m. Eastern Time on Thursday, July 19, 2007.

Docket Numbers: PH07-21-000.

Applicants: Ritchie Capital Management.

Description: FERC Form 65 A—Exemption Notification of Ritchie Capital Management.

Filed Date: 06/29/2007.

Accession Number: 20070629-5011.

Comment Date: 5 p.m. Eastern Time on Friday, July 20, 2007.

Docket Numbers: PH07-22-000.

Applicants: Ritchie Capital Management.

Description: FERC Form 65 B—Waiver Notification of Ritchie Capital Management LLC.

Filed Date: 06/29/2007.

Accession Number: 20070629-5012.

Comment Date: 5 p.m. Eastern Time on Friday, July 20, 2007.

Docket Numbers: PH07-23-000.

Applicants: SEMSTREAM, LP,SemGroup, L.P.

Description: FERC Form 65 B—Waiver Notification of SEMSTREAM, LP, et al. as a Single State Holding Company System.

Filed Date: 06/29/2007.

Accession Number: 20070629-5030.

Comment Date: 5 p.m. Eastern Time on Friday, July 20, 2007.

Docket Numbers: PH07-24-000.

Applicants: Carlyle Riverstone Global Energy and Power Fund II, L.P.

Description: FERC Form 65 B—Waiver Notification of Carlyle/Riverstone Global Energy and Power Fund II, L.P.

Filed Date: 06/29/2007.

Accession Number: 20070629-5063.

Comment Date: 5 p.m. Eastern Time on Friday, July 20, 2007.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at: http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive email notification when a document is added to a subscribed dockets(s). For assistance with any FERC Online service, please e-mail FERCOnlineSupport@ferc.gov. or call (866) 208-3676 (toll free). For TTY, call (202) 502-8659.

Kimberly D. Bose,
Secretary.

[FR Doc. E7-13510 Filed 7-11-07; 8:45 am]

BILLING CODE 6717-01-P